DEPARTMENT OF TRANSPORTATION

Federal Aviation Administration

[Summary Notice No. PE-2002-68]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains the dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Vanessa Wilkins, Office of Rulemaking (ARM-1), Federal Aviation Administration, 800 Independence Avenue, SW., Washington, DC 20591. Tel. (202) 267-8029.

This notice is published pursuant to 14 CFR §§ 11.85 and 11.91.

Issued in Washington, DC, on December 9, 2002.
Donald P. Byrne,
Assistant Chief Counsel for Regulations.

Dispositions of Petitions

Docket No.: FAA-2001-9331.

Petitioner: Pratt & Whitney.

Section of 14 CFR Affected: 14 CFR 21.325(b)(3).

Description of Relief Sought/Disposition: To allow Pratt & Whitney organizational designated airworthiness representatives to issue export airworthiness approvals for Class II and Class III products manufactured and located at Pratt & Whitney suppliers located in Germany, Italy, Japan, and Sweden.

Grant, 11/04/2002, Exemption No. 7915.

Docket No.: FAA-2000-8421.

Petitioner: Commodore Aviation, Inc.

Section of 14 CFR Affected: 14 CFR 21.325(b)(3).

Description of Relief Sought/Disposition: To permit Commodore to issue export airworthiness approvals for Class II products manufactured in Tel Aviv, Israel, by Israel Aircraft Industries, Bedek Aviation Group, as an approved supplier to Commodore under Commodore's parts manufacturing authority.

Grant, 10/07/2002, Exemption No. 6861B.

Docket No.: FAA-2002-13187.

Petitioner: The Soaring Society of America, Inc.

Section of 14 CFR Affected: 14 CFR 45.11(a) and (d).

Description of Relief Sought/Disposition: To permit owners, operators, and manufacturers of gliders to forgo the requirement to secure an identification plate or display the model and serial number on the exterior of the aircraft at specified locations.

Grant, 10/25/2002, Exemption No. 4988F.

Docket No.: FAA-2001-8684.

Petitioner: Northwest Airlines, Inc.

Section of 14 CFR Affected: 14 CFR 121.709(b)(3).

Description of Relief Sought/Disposition: To allow Northwest to use electronic signatures generated by its SCEPTRE electronic recordkeeping system in place of physical signatures to satisfy the airworthiness release or aircraft log entry signature requirements.

Grant, 11/15/2002, Exemption No. 6575C.

[FR Doc. 02-31355 Filed 12-11-02; 8:45 am]

BILLING CODE 4910-13-P